ELECTION ASSISTANCE COMMISSION

Progress Report; Standardized Format To Be Used for Both Interim and Final Progress Reporting

AGENCY: Election Assistance Commission.

ACTION: Notice of Request for public comment on standardized EAC Progress Report (EAC-PR) format to be used for both interim and final progress reporting for all EAC grants and submission to OMB of proposed collection of information.

DATES: Comments should be submitted by 5 p.m. on Wednesday, September 23rd, 2020.

ADDRESSES: Written comments and recommendations for the proposed information collection should be sent to www.reginfo.gov/public/do/PRAMain. Find this particular information collection by selecting “Currently under 30-day Review—Open for Public Comments” or by using the search function.

FOR FURTHER INFORMATION CONTACT: To view the proposed EAC-PR format and instrument, see: https://www.eac.gov/payments-and-grants/reporting. For information on the EAC-PR, contact Kinza Ghaznavi, Office of Grants, Election Assistance Commission, 202-400-1086, HAVAFunding@eac.gov. All requests and submissions should be identified by the title of the information collection.

SUMMARY: This proposed information collection was previously published in the Federal Register on June 17, 2020 and allowed 60 days for public comment. In compliance with the Paperwork Reduction Act (PRA) of 1995, EAC has submitted to the Office of Management and Budget (OMB) a request for review and approval of the information collection listed below. The purpose of this notice is to allow an additional 30 days for public comment from all interested individuals and organizations.

SUPPLEMENTARY INFORMATION: The EAC Office of Grants Management (EAC/OGM) is responsible for distributing, monitoring and providing technical assistance to states and grantees on the use of federal funds. EAC/OGM also reports on how the funds are spent to Congress, negotiates indirect cost rates with grantees, and resolves audit findings on the use of HAVA funds.

We are soliciting public comments to permit the EAC to:

• Evaluate whether the proposed information collection is necessary for the proper functions of the Office of Grants Management.

• Evaluate the accuracy of our estimate of burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

OMB approval is requested for 3 years.

Respondents: All EAC grantees and state governments.

Annual Burden Estimates
EAC grant | Instrument | Total number of respondents | Total number of responses per year | Average burden hours per response | Annual burden hours
251 | EAC-PNR | 43 | 2 | 1 | 86
101 | EAC-PNR | 29 | 2 | 1 | 58
Election Security | EAC-PNR | 56 | 2 | 1 | 112
CARES | EAC-PNR | 56 | * 3 | 1 | 168
Total |  |  |  |  | 424
* The total max possible number of reports per respondent is six, however, many grantees will be able to meet the match before the 2-year period due to the activities being restricted to the 2020 elections.

Amanda Joiner,
Associate Counsel, U.S. Election Assistance Commission.

[FR Doc. 2020-18622 Filed 8-25-20; 8:45 am]

BILLING CODE P